DEPARTMENT OF COMMERCE

National Oceanic and Atmospheric Administration

Deep Seabed Mining: Request for Extension of Exploration Licenses

AGENCY: National Oceanic and Atmospheric Administration, U.S. Department of Commerce.

ACTION: Notice of receipt of application to extend Deep Seabed Mining Exploration Licenses USA-1 and USA-4; request for comments.

SUMMARY: Pursuant to the Deep Seabed Hard Mineral Resources Act (DSHMRA; 30 U.S.C. 1401-1473), the National Oceanic and Atmospheric Administration (NOAA) has received an application for five-year extensions of Deep Seabed Mining Exploration Licenses USA-1 and USA-4 that are held by the Lockheed Martin Corporation. As part of the application, NOAA also has received an amended exploration plan submitted by Lockheed, which sets forth the exploration activities to be conducted during the extended period of the license.

The USA-1 and USA-4 deep seabed mining licenses were previously issued to Ocean Minerals Company (OMCO), a partnership that included Lockheed. Upon the dissolution of OMCO, all interests in both licenses were conveyed to Lockheed.

Section 107(a) of DSHMRA provides that the initial term of an exploration license shall be for ten years. 30 U.S.C. 1417. This section further provides that if the licensee has substantially complied with the license and exploration plan and has requested an extension of the license, NOAA shall extend the license, for periods of not more than five years each, on terms, conditions and restrictions consistent with DSHMRA and its supporting regulations.

The terms of licenses USA-1 and USA-4 authorized exploration through 2004. In 2011, Lockheed requested an extension of USA-1 and USA-4. NOAA has determined that it is within the discretion of the agency to consider Lockheed Martin's request to extend these DSHMRA licenses, and that NOAA intends to consider this request under 15 CFR 970.515(b). NOAA notes that the investment and engagement in exploration activities by Lockheed predate the enactment of DSHMRA. Thus, NOAA recognizes that Lockheed qualifies as a pre-enactment explorer under the DSHMRA regulations at 15 CFR 970.101(q). Lockheed has not surrendered its licenses nor otherwise shown any intent to abandon them. The records for these licenses show that Lockheed indicated its intent to extend the licenses in several communications to NOAA. According to LM's application, Lockheed has not undertaken any at-sea exploration activities that would be in violation of the license terms, conditions and restrictions. NOAA finds that the public interest would not be served by requiring Lockheed to reapply for the exploration licenses.

As part of its extension request, Lockheed has submitted an amended exploration plan that discusses activities undertaken to date, together with those activities it would pursue during the next five years. Consistent with exploration plans previously submitted by OMCO in conjunction with earlier extension requests, the exploration proposed by Lockheed will continue to occur in two phases with Phase I being a preparatory stage followed by at-sea exploration during Phase II. Phase I consists of onshore study and analysis, including the selection of suitable survey systems, and the collection of economic, design and environmental data. Phase II would occur in the future, contingent upon changes in market conditions that would support the substantial investment in at-sea exploration, and on the ability of Lockheed Martin to obtain adequate assurance of security of tenure at the international level. For a U.S. company, obtaining such adequate assurance of security of tenure would require that the United States become a Party to the 1982 Law of the Sea Convention, as modified by the 1994 Implementing Agreement. Under both licenses, further NOAA approval is required before Phase II at-sea activities may be undertaken.

NOAA is requesting comments pertaining to the request to extend USA-1 and USA-4 including but not limited to whether there has been substantial compliance with the licenses and exploration plans, and whether the revised exploration plans for USA-1 and USA-4 meet the terms, conditions and restrictions of DSHMRA and the licenses issued thereunder. With the exception of any information deemed to be subject to the confidentiality protections provided under 15 CFR 971.802, the request for extension and revised exploration plan are available through the contact for further information listed below.

DATES: Individuals and organizations intending to submit comments on the exploration license extension request should do so by April 15, 2012.

ADDRESSES: Comments should be submitted to Joelle Gore, Acting Chief, Coastal Programs Division (N/ORM3), Office of Ocean and Coastal Resource Management, NOS, NOAA, 1305 East-West Highway, Silver Spring, Maryland 20910; email Joelle.Gore@noaa.gov.

FOR FURTHER INFORMATION CONTACT: Kerry Kehoe, Coastal Programs Division (NORM/3), Office of Ocean and Coastal Resource Management, NOS, NOAA, 1305 East-West Highway, Silver Spring, Maryland 20910; email Kerry.Kehoe@noaa.gov. Federal Domestic Assistance Catalogue 11.419 Coastal Zone Management Program Administration.

Dated: February 17, 2012.
David M. Kennedy,
Assistant Administrator, National Ocean Service, National Oceanic Atmospheric Administration.

[FR Doc. 2012-4613 Filed 2-28-12; 8:45 am]

BILLING CODE 3510-08-P